DEPARTMENT OF HEALTH AND HUMAN SERVICES

Centers for Disease Control and Prevention

Disease, Disability, and Injury Prevention and ControlSpecial Emphasis Panel: CDC Health Protection

Research Initiative: Evaluation of Workplace Health Promotion Research Projects, Request for Applications (RFA) CD07-004.

In accordance with section 10(a)(2) of the Federal Advisory Committee Act (Pub. L. 92-463), the Centers for Disease Control and Prevention (CDC) announces a meeting of the aforementioned Special Emphasis Panel.

Time and Date: 9 a.m.-5 p.m., July 17, 2007 (Closed).

Place: Doubletree Buckhead Hotel, 3342 Peachtree Road, NE., Atlanta, GA 30326.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of the scientific merit of research applications in response to RFA CD07-004, “CDC Health Protection Research Initiative: Evaluation of Workplace Health Promotion Research Projects.”

Contact Person For More Information: Christine J. Morrison, Ph.D., Designated Federal Official, 1600 Clifton Road, NE., Mailstop D72, Atlanta, GA 30333, telephone (404) 639-3098.

The Director, Management Analysis and Services Office, has been delegated the authority to sign Federal Register notices pertaining to announcements of meetings and other committee management activities, for both CDC and the Agency for Toxic Substances and Disease Registry.

Dated: May 18, 2007.
Elaine L. Baker,
Acting Director, Management Analysis and Services Office, Centers for Disease Control and Prevention.

[FR Doc. E7-10104 Filed 5-24-07; 8:45 am]

BILLING CODE 4163-18-P